DEPARTMENT OF DEFENSE

Defense Acquisition Regulations System

[Docket Number DARS-2017-0021; OMB Control Number 0704-0214]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by March 28, 2018.

SUPPLEMENTARY INFORMATION:

Title, Associated Forms and OMB Number: Defense Federal Acquisition Regulation Supplement (DFARS) Part 217, Special Contracting Methods, and related clauses at 252.217; OMB Control Number 0704-0214.

Affected Public: Businesses or other for-profit and not-for- profit institutions.

Respondent's Obligation: Required to obtain or retain benefits.

Type of Request: Revision of a currently approved collection.

Reporting Frequency: On occasion.

Number of Respondents: 5,859.

Responses per Respondent: 5.

Annual Responses: 29,295.

Average Burden per Response: 8.

Annual Burden Hours: 234,360.

Summary of Information Collection

DFARS 217.7004, Exchange of Personal Property. Paragraph (a) of this section requires that solicitations which contemplate exchange (trade-in) of personal property and application of the exchange allowance to the acquisition of similar property (see 40 U.S.C. 481), shall include a request for offerors to state prices for the new items being acquired both with and without any exchange (trade-in allowance).

DFARS 217.7404-3, Undefinitized Contract Actions. Paragraph (b) of this section requires contractors to submit a “qualifying proposal” in accordance with the definitization schedule provided in the contract. A qualifying proposal is defined in DFARS 217.7401(c) as a proposal containing sufficient information for the DoD to do complete and meaningful analyses and audits of the information in the proposal, and any other information that the contracting officer has determined DoD needs to review in connection with the contract.

DFARS 217.7505, Acquisition of Replenishment Parts. Paragraph (d) of this section permits contracting officers to include in sole-source solicitations that include acquisition of replenishment parts, a provision requiring that the offeror supply with its proposal, price and quantity data on any Government orders for the replenishment part issued within the most recent 12 months (see 10 U.S.C. 2452 note, Spare Parts and Replacement Equipment, Publication of Regulations).

DFARS 252.217-7012, Liability and Insurance. Paragraph (d)(3) of this clause requires the contractor to show evidence of casualty, accident, and liability insurance under a master agreement for vessel repair and alteration.

DFARS 252.217-7012. Paragraphs (f) and (g) of the require the contractor to notify the contracting officer of any property loss or damage for which the Government is liable and to submit to the contracting officer a request, with supporting documentation, for reimbursement of the cost of replacement or repair.

DFARS 252.217-7026, Identification of Sources of Supply. This provision requires the apparently successful offeror to identify its sources of supply. The Government is required under 10 U.S.C. 2384 to obtain certain information on the actual manufacturer or sources of supplies it acquire.

DFARS 252.217-7028, Over and Above Work. Paragraphs (c) and (e) of this clause require the contractor to submit to the contracting officer a work request and proposal for “over and above work” or work discovered during the course of performing overhaul, maintenance, and repair efforts that is within the general scope of the contract, not covered by the line item(s) for the basic work under the contract, and necessary in order to satisfactorily complete the contract.

Jennifer L. Hawes,
Regulatory Control Officer, Defense Acquisition Regulations System.

[FR Doc. 2018-03850 Filed 2-23-18; 8:45 am]

BILLING CODE 5001-06-P